COMMISSION ON CIVIL RIGHTS

Notice of Public Meeting of the Connecticut Advisory Committee; Correction

AGENCY: Commission on Civil Rights.

ACTION: Notice; correction.

SUMMARY: The Commission on Civil Rights published a notice in the Federal Register of Wednesday, October 17, 2018, concerning a meeting of the Connecticut Advisory Committee to be held on Wednesday, November 14, 2018. The caller ID was incorrect.

FOR FURTHER INFORMATION CONTACT: Evelyn Bohor, (303) 866-1040.

Correction

In the Federal Register of Wednesday, October 17, 2018, in FR Doc. 2018-22615, on page 52378, in the third column, and on page 52379, in the first column, correct the conference call ID to read: 8797752.

Dated: October 18, 2018.
David Mussatt,
Supervisory Chief, Regional Programs Coordination Unit.

[FR Doc. 2018-23049 Filed 10-22-18; 8:45 am]

BILLING CODE P